DEPARTMENT OF COMMERCE

Submission for OMB Review: Comment Request

DOC has submitted to the Office of Management and Budget (OMB) for clearance the following proposal for collection of information under the provisions of the Paperwork Reduction Act of 1995, Public Law 104-13.

Bureau: International Trade Administration.

Title: Commercial Service Client Focus Groups.

Agency Form Number: ITA-XXXX.

OMB Number: 0625-XXXX.

Type of Request: Regular Submission.

Burden: 192 hours.

Number of Respondents: 96.

Avg. Hours Per Response: 10 minutes.

Needs and Uses: The International Trade Administration's U.S. Commercial Service is mandated by Congress to help U.S. businesses, particularly small and medium-sized companies, export their products and services to global markets. As part of its mission, the U.S. Commercial Service uses “Quality Assurance Surveys” to collect feedback from the U.S. business clients it serves. These surveys ask the client to evaluate the U.S. Commercial Service on its customer service provision. Results from the surveys are used to make improvements to the agency's business processes in order to provide better and more effective export assistance to U.S. companies. In addition to collecting client feedback through Quality Assurance Surveys, the U.S. Commercial Service would like to institutionalize client focus groups as another mechanism to obtain further client feedback and substantiate customer service trends we are seeing in the surveys. Client focus groups will enrich the quantitative data of surveys by providing a qualitative context for the trends that emerge. The purpose of the attached client focus group questioning routes is to collect feedback from U.S. businesses that receive export assistance services from the U.S. Commercial Service. In providing these services, the U.S. Commercial Service promotes the goods and services of small and medium-sized U.S. companies in foreign markets.

Affected Public: U.S. companies that are recruited by the U.S. Commercial Service.

Frequency: Upon recruitment of client focus groups (On occasion).

Respondents Obligation: Voluntary.

OMB Desk Officer: David Rostker, (202) 395-7340.

Copies of the above information collection can be obtained by calling or writing Diana Hynek, Department Paperwork Clearance Officer, (202) 482-0266, Department of Commerce, Room 6625, 14th and Constitution Avenue, NW., Washington, DC 20230. E-mail dHynek@doc.gov.

Written comments and recommendations for the proposed information collection should be sent to David Rostker, OMB Desk Officer, David_Rostker@omb.eop.gov or fax (202) 395-7285 within 30 days of the publication of this notice in the Federal Register.

Dated: September 2, 2005.
Madeleine Clayton,
Management Analyst, Office of the Chief Information Officer.

[FR Doc. 05-17809 Filed 9-7-05; 8:45 am]

BILLING CODE 3510-FP-P